LEGAL SERVICES CORPORATION

Sunshine Act Meeting; Notice

DATE AND TIME: The Legal Services Corporation's Board of Directors and its six committees will meet September 30—October 2, 2012. On Sunday, September 30, the first meeting will commence at 1:15 p.m., Eastern Daylight Time (EDT), and each meeting thereafter commencing promptly upon adjournment of the immediately preceding meeting. The exception will be the meetings of the Institutional Advancement Committee and the Audit Committee, which will run concurrently immediately upon conclusion of the meeting of the Operations & Regulations Committee. On Monday, October 1, the meeting of the Promotion & Provision for the Delivery of Legal Services Committee will commence at 3:00 p.m., EDT, followed by the meeting of the Board of Directors. On Tuesday, October 2, the meeting of the Board of Directors will resume at 8:00 a.m., EDT.

LOCATION: Hilton Durham Hotel, 3800 Hillsborough Road, Durham, North Carolina 27705.

PUBLIC OBSERVATION: Unless otherwise noted herein, the Board and all committee meetings will be open to public observation. Members of the public who are unable to attend in person but wish to listen to the public proceedings may do so by following the telephone call-in directions provided below but are asked to keep their telephones muted to eliminate background noises. To avoid disrupting the meeting, please refrain from placing the call on hold. From time to time, the presiding Chair may solicit comments from the public.

CALL-IN DIRECTIONS FOR OPEN SESSIONS: • Call toll-free number: 1-866-451-4981;

• When prompted, enter the following numeric pass code: 5907707348 (or 2755431953 to access the Audit Committee meeting)

• When connected to the call, please immediately “MUTE” your telephone.

* Please note that all times in this notice are in the Eastern Daylight Time.

** The meeting of the Institutional Advancement Committee will run concurrently with the meeting of the Audit Committee.

Meeting Schedule

| Time *
Sunday, September 30, 2012
1. Finance Committee | 1:15 p.m.
2. Governance & Performance Committee
3. Operations & Regulations Committee
4. Institutional Advancement Committee**
5. Audit Committee**
Monday, October 1, 2012
1. Promotion & Provision for the Delivery of Legal Services Committee | 3 p.m.
2. Board of Directors
Tuesday, October 2, 2012
1. Board of Directors | 8 a.m.

STATUS OF MEETING: Open, except as noted below.

Board of Directors—Open, except that, upon a vote of the Board of Directors, a portion of the meeting may be closed to the public to hear briefings by management and LSC's Inspector General, and to consider and act on the General Counsel's report on potential and pending litigation involving LSC.***

*** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

Institutional Advancement Committee—Open, except that, upon a vote of the Board of Directors, the meeting may be closed to the public to discuss the LSC honorary support auxiliary and LSC alumni groups, discuss pro bono advice and counsel, discuss pro bono assistance to obtain funds pending establishment of the Development Office, and discuss potential funders for the Pro Bono Innovation/Incubation Fund.

A verbatim written transcript will be made of the closed session of the Board and Institutional Advancement Committee meetings. The transcript of any portions of the closed session falling within the relevant provisions of the Government in the Sunshine Act, 5 U.S.C. 552b(c)(6), (9) and (10), and the corresponding provisions of the Legal Services Corporation's implementing regulations, 45 CFR 1622.5(e), (g) and (h), will not be available for public inspection. A copy of the General Counsel's Certification that in his opinion the closing is authorized by law will be available upon request.

MATTERS TO BE CONSIDERED:

September 30, 2012

Finance Committee

1. Approval of agenda

2. Approval of the minutes of the meeting of July 17, 2012

3. Approval of the minutes of the meeting of July 27, 2012

4. Approval of the minutes of the meeting of August 20, 2012

5. Presentation on LSC's Financial Reports for Ten-Month period ending July 31, 2012

• Presentation by David Richardson

6. Staff report on status of FY 2013 appropriations process

• Presentation by Carol Bergman

7. Consider and act on Resolution #2012-0XX, Temporary Operating Budget for FY 2013

• Presentation by David Richardson

8. Briefing on lease for 3333 K Street

9. Public comment

10. Consider and act on other business

11. Consider and act on adjournment of meeting

Governance & Performance Review Committee

1. Approval of agenda

2. Approval of minutes of the Committee's meeting of July 27, 2012

3. Staff report on progress in implementing GAO recommendations

4. Report on Public Welfare Foundation grant

• Presentation by Jim Sandman

5. Consider and act on other business

6. Public comment

7. Consider and act on motion to adjourn meeting

Operations & Regulations Committee

1. Approval of agenda

2. Consider and act on possible revisions to the Corporation's Bylaws for implementation of the Corporation's Continuation of Operations Plan (“COOP”)

3. Consider and act on rulemaking on grant termination procedures, enforcement mechanisms, and suspension procedures

• Mark Freedman, Senior Assistant General Counsel

• Matthew Glover, Associate Counsel to the Inspector General

• Public comment on this rulemaking

4. Public comment

5. Consider and act on other business

6. Consider and act on adjournment of meeting

Institutional Advancement Committee

Open Session

1. Approval of agenda

2. Approval of minutes of the Committee's September 4, 2012 telephonic meeting

3. Public Comment

4. Consider and act on other business

Closed Session

5. Approval of minutes of the Committee's July 27, 2012 closed session meeting

6. Discussion regarding the LSC honorary support auxiliary and LSC alumni groups

7. Discussion regarding pro bono advice and counsel

8. Discussion regarding pro bono assistance to obtain funds pending establishment of the Development Office

9. Discussion of potential funders for the Pro Bono Innovation/Incubation Fund

10. Consider and act on motion to adjourn the meeting

Audit Committee

1. Approval of agenda

2. Approval of minutes of the Committee's July 27, 2012 meeting

3. Consider and act on revised Audit Committee charter

4. Briefing by Office of Inspector General

• Jeffrey Schanz, Inspector General

5. Public comment

6. Consider and act on other business

7. Consider and act on adjournment of meeting

October 1, 2012

Promotion & Provision for the Delivery of Legal Services Committee

1. Approval of Agenda

2. Approval of Minutes of the Committee's meeting of July 27, 2012

3. Discussion of topics for future Committee meetings

4. Panel Presentation on uses of technology to improve LSC grantee effectiveness and efficiencies

• Moderator—Janet LaBella, Director, Office of Program Performance

• Pat Muller, Information Technology Manager, South Carolina Legal Services

• Eric Mittelstadt, Deputy Director, Utah Legal Services

• Michael Prince, Information Technology Manager, Legal Aid of NorthWest Texas

• George Hausen, Executive Director, Legal Aid of North Carolina

5. Public comment

6. Consider and act on other business

7. Consider and act on motion to adjourn the meeting

October 1-2, 2012

Board of Directors

1. Pledge of Allegiance

2. Approval of agenda

3. Approval of Minutes of the Board's meeting of August 31, 2012

4. Chairman's Report

5. Members' Reports

6. President's Report

7. Inspector General's Report

8. Consider and act on the report of the Promotion and Provision for the Delivery of Legal Services Committee

9. Consider and act on the report of the Finance Committee

10. Consider and act on the report of the Audit Committee

11. Consider and act on the report of the Operations and Regulations Committee

12. Consider and act on the report of the Governance and Performance Review Committee

13. Consider and act on the report of the Institutional Advancement Committee

14. Consider and act on the draft Strategic Plan

15. Public comment

16. Consider and act on other business

17. Consider and act on whether to authorize an executive session of the Board to address items listed below, under Closed Session

Closed Session

18. Approval of minutes of the Board's closed session meeting of July 27, 2012

19. Approval of minutes of the Board's closed session telephonic meeting of August 31, 2012

20. Briefing by Management

21. Briefing by the Inspector General

22. Consider and act on General Counsel's report on potential and pending litigation involving LSC

23. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: September 20, 2012.
Victor M. Fortuno,
Vice President & General Counsel.

[FR Doc. 2012-23667 Filed 9-21-12; 4:15 pm]

BILLING CODE 7050-01-P